DEPARTMENT OF TRANSPORTATION

Federal Aviation Administration

14 CFR Part 39

[Docket No. FAA-2023-1488; Project Identifier AD-2023-00182-T; Amendment 39-22946; AD 2025-02-13]

RIN 2120-AA64

Airworthiness Directives; The Boeing Company Airplanes

AGENCY: Federal Aviation Administration (FAA), DOT.

ACTION: Final rule.

SUMMARY: The FAA is adopting a new airworthiness directive (AD) for certain The Boeing Company Model 757-200, -200CB, and -200PF series airplanes. This AD was prompted by a report indicating an operator has found cracks on three Model 757-200PF airplanes at the main deck cargo door cutout forward and aft hinge attachment holes. This AD requires a maintenance record check for repairs at the forward and aft hinge areas of the main deck cargo door cutout; repetitive open-hole high frequency eddy current (HFEC) inspections for cracks in the unrepaired areas of the bear strap, skin, doubler, and upper sill chord at the main deck cargo door forward and aft hinge attachment holes; and applicable corrective actions. The FAA is issuing this AD to address the unsafe condition on these products.

DATES: This AD is effective March 17, 2025.

The Director of the Federal Register approved the incorporation by reference of a certain publication listed in this AD as of March 17, 2025.

ADDRESSES:

AD Docket: You may examine the AD docket at regulations.gov under Docket No. FAA-2023-1488; or in person at Docket Operations between 9 a.m. and 5 p.m., Monday through Friday, except Federal holidays. The AD docket contains this final rule, any comments received, and other information. The address for Docket Operations is U.S. Department of Transportation, Docket Operations, M-30, West Building Ground Floor, Room W12-140, 1200 New Jersey Avenue SE, Washington, DC 20590.

Material Incorporated by Reference:

• For Boeing material identified in this AD, contact Boeing Commercial Airplanes, Attention: Contractual & Data Services (C&DS), 2600 Westminster Blvd., MC 110-SK57, Seal Beach, CA 90740-5600; telephone 562-797-1717; website myboeingfleet.com.

• You may view this material at the FAA, Airworthiness Products Section, Operational Safety Branch, 2200 South 216th St., Des Moines, WA. For information on the availability of this material at the FAA, call 206-231-3195. It is also available at regulations.gov under Docket No. FAA-2023-1488.

FOR FURTHER INFORMATION CONTACT: Wayne Ha, Aviation Safety Engineer, FAA, 2200 South 216th Street, Des Moines, WA 98198; phone: 562-627-5238; email: wayne.ha@faa.gov.

SUPPLEMENTARY INFORMATION:

Background

The FAA issued a notice of proposed rulemaking (NPRM) to amend 14 CFR part 39 by adding an AD that would apply to certain The Boeing Company Model 757-200, -200CB, and -200PF series airplanes. The NPRM published in the Federal Register on August 4, 2023 (88 FR 51745). The NPRM was prompted by a report of cracks found at the main deck cargo door forward and aft hinge attachment holes. In the NPRM, the FAA proposed to require a maintenance records check for repairs at the forward and aft hinge areas of the main deck cargo door cutout; repetitive open-hole high frequency eddy current (HFEC) inspections for cracks in the unrepaired areas of the bear strap, skin, doubler, and upper sill chord at the main deck cargo door forward and aft hinge attachment holes; and corrective actions. The FAA is issuing this AD to detect and correct cracks in the main deck cargo door hinge area, which could result in reduced structural integrity of the airplane.

The FAA issued a supplemental notice of proposed rulemaking (SNPRM) to amend 14 CFR part 39 by adding an AD that would apply to certain The Boeing Company Model 757-200, -200CB, and -200PF series airplanes. The SNPRM published in the Federal Register on April 29, 2024 (89 FR 33294). The SNPRM was prompted by a determination that airplanes that have been modified from a passenger to a freighter configuration using VT Mobile Aerospace Engineering (VT MAE) Supplemental Type Certificate (STC) ST03562AT, ST03952AT, or ST04242AT were inadvertently omitted in the NPRM. The SNPRM proposed to add airplanes to the applicability. The FAA is issuing this AD to address the unsafe condition on these products.

Discussion of Final Airworthiness Directive

Comments

The FAA received a comment from Boeing who supported the SNPRM without change.

The FAA received additional comments from FedEx Express (FedEx) and VT Mobile Aerospace Engineering (VT MAE). The following presents the comments received on the SNPRM and the FAA's response to each comment.

Requests To Extend Compliance Time for Certain Airplanes

FedEx stated that the FAA is placing an unrealistic timeline and burden, without any data, on operators with airplanes modified by VT MAE STC ST03562AT. Within paragraph (g)(1) of the proposed AD and paragraph 3, Compliance, of Boeing Alert Requirements Bulletin 757-53A0106 RB, dated January 3, 2023, the FAA is granting airplanes identified in paragraph (c)(1)(i) of the proposed AD and paragraph 1, Effectivity, of Boeing Alert RB 757-53A0106 RB, dated January 3, 2023, a minimum of 2,800 flight cycles, but the modified VT MAE STC ST03562AT airplanes only get 30 days. FedEx stated that there is no way FedEx can comply with a 30-day maintenance record check on 118 airplanes. This unsubstantiated 30-day compliance time will end up grounding a majority of the FedEx 757-200 fleet. If the FAA keeps this proposed 30-day maintenance record check compliance, FedEx will immediately request approval to extend the compliance time via an alternative method of compliance (AMOC). However, AMOC processing by the FAA could take 30 days to approve and still result in a FedEx 757-200 fleet grounding, even if the FAA agrees to the extension.

Similarly, VT MAE stated that it is impossible for their operators to comply with the requirements within 30 days after the effective date of the AD. This is particularly true for FedEx, which operates 118 Boeing Model 757-200 special freighter airplanes converted per VT MAE STC ST03562AT (14 pallet configuration). VT MAE added that for the airplanes converted per VT MAE STC ST03562AT (14 Pallet Configuration), VT MAE STC ST03952AT (14 pallet configuration), and VT MAE STC ST04242AT (15 pallet configuration), the installation of the main deck cargo door hinge is identical to the Boeing 757-200 Special Freighter (SF) airplanes converted per Boeing STC ST00916WI-D. The installation of the main deck cargo door hinge in Drawing 657N3270 that is applicable to both Boeing Model 757-200SF series airplanes and modified VT MAE STC airplanes per VT MAE STC ST03562AT (14 pallet configuration), VT MAE STC ST03952AT (14 pallet configuration), and VT MAE STC ST04242AT (15 pallet configuration).

The FAA agrees with the requests. The FAA did not intend to require a maintenance record check for any repair at the forward and aft hinge areas of the main deck cargo door cutout in paragraph (g)(2) of the proposed AD. The FAA has changed paragraph (g)(2) of this AD to require obtaining inspection instructions and applicable repair instructions using a method approved by the FAA. The FAA agrees that the Boeing Model 757 airplanes that have been modified by VT MAE STC ST03562AT (14 pallet configuration), ST03952AT (14 pallet configuration), and ST04242AT (15 pallet configuration) are affected by this AD, because these airplane configurations have the main deck cargo door cutouts.

Request To Use Work Instructions for Group 2 in Boeing Alert Requirements Bulletin 757-53A0106 RB for Modified VT MAE STC Airplanes

FedEx referred to paragraph (g)(2) of the proposed AD, which would require obtaining inspection instructions and applicable repair instructions using a method approved by the FAA. Boeing STC ST00916WI-D and VT MAE STC ST03562AT are identical. The VT MAE STC ST03562AT main deck cargo door hinge installation is done in accordance with Boeing Drawing 657N3270, which is applicable to Model Boeing 757-200SF airplanes. According to Boeing Letter FED-SU-1901571 and VT MAE Document No. 337/STR-100, both Boeing and VT MAE own the technical data for VT MAE STC ST03562AT. For repairs, service bulletins, ADs, etc., on Boeing Model 757-200 airplanes, Boeing and VT MAE provide direction and approval to FedEx. As stated in the initial comment period by FedEx and VTMAE, FedEx will be utilizing the Group 2 instructions in Boeing Alert Requirements Bulletin 757-53A0106 RB, dated January 3, 2023, to address the unsafe condition identified in the SNPRM. If this is not acceptable to the FAA, FedEx requested that the FAA provide a method of compliance (MOC) for VT MAE STC ST03562AT airplanes to comply with the SNPRM. According to FedEx and VT MAE (design approval holder), utilizing the Group 2 instructions in Boeing Alert Requirements Bulletin 757-53A0106 RB, dated January 3, 2023, will address the unsafe condition identified in the SNPRM.

Therefore, FedEx requested a change to the requirements for airplanes converted to a freighter configuration using VT MAE STC ST03562AT, ST03952AT, or ST04242AT. Specifically, FedEx requested that those airplanes be required to use instructions for Group 2 in Boeing Alert Requirements Bulletin 757-53A0106 RB, dated January 3, 2023.

Similarly, VT MAE proposed to utilize the inspections, methods, and intervals ¹ in Group 2 of Boeing Alert Requirements Bulletin 757-53A0106 RB, dated January 3, 2023, for the modified airplanes per VT MAE STC ST03562AT (14 pallet configuration), VT MAE STC ST03952AT (14 pallet configuration), and VT MAE STC ST04242AT (15 pallet configuration).

¹ Initial compliance time of 27,500 flight cycles from the freighter conversion date or 2,800 flight cycles after the effective date of the AD, with repetitive inspections at intervals not to exceed 7,000 flight cycles.

The FAA does not agree with the requests. At this time, whether the VT MAE and Boeing STCs are identical in the areas affected by this proposed AD or using the compliance methods and times for Group 2 airplanes adequately address the identified unsafe condition has not been determined. FedEx and VT MAE are to request that the FAA provide a method of compliance (MOC) for airplanes with VT MAE STC ST03562AT (14 pallet configuration), VT MAE STC ST03952AT (14 pallet configuration), and VT MAE STC ST04242AT (15 pallet configuration) to comply with the SNPRM. The FAA has not changed this AD in response to this request.

The FAA does not agree to change paragraph (g)(2) as FedEx specifically requested but has changed paragraph (g)(2) of this AD from a requirement to perform a maintenance record check for repairs to a requirement to obtain inspection instructions and applicable repair instructions.

Request To Base Compliance Time on AD Type

FedEx stated that a 30-day compliance time is designated for emergency ADs. The commenter stated that as paragraph (g)(2) of the proposed AD is written, the FAA is forcing an emergency AD on VT MAE STC ST03562AT airplanes in paragraph (c)(1)(ii) of the proposed AD with no substantiating data, while airplanes identified in paragraph (c)(1)(i) of the proposed AD, Group 2 (Boeing STC ST00916WI-D airplanes) are allowed to maintain the original compliance time (27,500 flight cycles after conversion or 2,800 flight cycles after the AD's effective date, whichever occurs later). FedEx pointed out that the FAA is applying inconsistent compliance times for airplanes modified per Boeing STC ST00916WI-D and airplanes modified by VT MAE STC ST03562AT airplanes—and, as stated in a previous comment, these are identical STCs.

The FAA does not agree with this request. There is no merit to FedEx's statement that a 30-day compliance time is designated for emergency ADs. The compliance time does not determine the type of AD, and the AD type is not limited to a compliance time range. This is not an emergency AD. The 30-day compliance time is to allow for FedEx and VT MAE to request the FAA to provide a method of compliance (MOC) for airplanes modified with VT MAE STCs to comply with the AD. Boeing and VT MAE own the technical data, which can be provided for justification prior to the compliance time ending. The FAA has not changed this AD in response to this request.

Conclusion

The FAA reviewed the relevant data, considered any comments received, and determined that air safety requires adopting this AD as proposed. Accordingly, the FAA is issuing this AD to address the unsafe condition on these products. Except for minor editorial changes, and any other changes described previously, this AD is adopted as proposed in the SNPRM. None of the changes will increase the economic burden on any operator.

Material Incorporated by Reference Under 1 CFR Part 51

The FAA reviewed Boeing Alert Requirements Bulletin 757-53A0106 RB, dated January 3, 2023. This material specifies procedures for a maintenance record check for repairs at the forward and aft hinge areas of the main deck cargo door cutout; repetitive open-hole HFEC inspections for cracks in the unrepaired areas of the bear strap, skin, doubler, and upper sill chord at the main deck cargo door forward and aft hinge attachment holes; and corrective actions including obtaining and following procedures for alternative inspections and crack repairs.

This material is reasonably available because the interested parties have access to it through their normal course of business or by the means identified in the ADDRESSES section.

Costs of Compliance

The FAA estimates that this AD affects 564 airplanes of U.S. registry. The FAA estimates the following costs to comply with this AD:

Estimated Costs
Action | Labor cost | Parts cost | Cost per product | Cost on U.S. operators
Maintenance record check | 1 work-hour * × $85 per hour = $85 | $0 | $85 | $47,940.
HFEC inspections | 26 work-hours × $85 per hour = $2,210, per inspection cycle | 0 | $2,210 per inspection cycle | $1,246,440 per inspection cycle.
* The time to do the maintenance record check will vary by operator but would likely take no more than 1 work-hour per airplane.

The FAA has received no definitive data on which to base the cost estimates for the on-condition actions specified in this AD.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2025-02-13 The Boeing Company: Amendment 39-22946; Docket No. FAA-2023-1488; Project Identifier AD-2023-00182-T.

(a) Effective Date

This airworthiness directive (AD) is effective March 17, 2025.

(b) Affected ADs

None.

(c) Applicability

(1) This AD applies to The Boeing Company Model 757-200, -200CB, and -200PF series airplanes specified in paragraph (c)(1)(i) or (ii) of this AD, certificated in any category.

(i) Airplanes identified in Boeing Alert Requirements Bulletin 757-53A0106 RB, dated January 3, 2023.

(ii) Airplanes converted to a freighter configuration using VT MAE Supplemental Type Certificate (STC) ST03562AT, ST03952AT, or ST04242AT.

(2) Installation of STC ST01518SE does not affect the ability to accomplish the actions required by this AD. Therefore, for airplanes on which STC ST01518SE is installed, a “change in product” alternative method of compliance (AMOC) approval request is not necessary to comply with the requirements of 14 CFR 39.17.

(d) Subject

Air Transport Association (ATA) of America Code 53, Fuselage.

(e) Unsafe Condition

This AD was prompted by a report indicating an operator has found cracks on three Model 757-200PF airplanes at the main deck cargo door cutout forward and aft hinge attachment holes. The FAA is issuing this AD to detect and correct cracks in the main deck cargo door hinge area. Undetected cracks in the main deck cargo door hinge area could result in reduced structural integrity of the airplane.

(f) Compliance

Comply with this AD within the compliance times specified, unless already done.

(g) Required Actions

(1) For the airplanes identified in paragraph (c)(1)(i) of this AD: Except as specified by paragraph (h) of this AD, at the applicable times specified in the “Compliance” paragraph of Boeing Alert Requirements Bulletin 757-53A0106 RB, dated January 3, 2023, do all applicable actions identified in, and in accordance with, the Accomplishment Instructions of Boeing Alert Requirements Bulletin 757-53A0106 RB, dated January 3, 2023.

Note 1 to paragraph (g)(1): Guidance for accomplishing the actions required by this AD can be found in Boeing Alert Service Bulletin 757-53A0106, dated January 3, 2023, which is referred to in Boeing Alert Requirements Bulletin 757-53A0106 RB, dated January 3, 2023.

(2) For the airplanes identified in paragraph (c)(1)(ii) of this AD: Within 30 days after the effective date of this AD, obtain inspection instructions and applicable repair instructions using a method approved by the Manager, AIR-520, Continued Operational Safety Branch, FAA. Comply with all applicable instructions at the time specified in the instructions.

(h) Exceptions to Service Information Specifications

(1) Where the Compliance Time columns of the tables in the “Compliance” paragraph of Boeing Alert Requirements Bulletin 757-53A0106 RB, dated January 3, 2023, use the phrase the original issue date of Requirements Bulletin 757-53A0106 RB, this AD requires using the effective date of this AD.

(2) Where Boeing Alert Requirements Bulletin 757-53A0106 RB, dated January 3, 2023, specifies contacting Boeing for repair instructions or for alternative inspections, this AD requires doing the repair, or doing the alternative inspections and applicable on-condition actions using a method approved in accordance with the procedures specified in paragraph (i) of this AD.

(i) Alternative Methods of Compliance (AMOCs)

(1) The Manager, AIR-520, Continued Operational Safety Branch, FAA, has the authority to approve AMOCs for this AD, if requested using the procedures found in 14 CFR 39.19. In accordance with 14 CFR 39.19, send your request to your principal inspector or responsible Flight Standards Office, as appropriate. If sending information directly to the manager of the certification office, send it to the attention of the person identified in paragraph (j)(1) of this AD. Information may be emailed to: AMOC@faa.gov.

(2) Before using any approved AMOC, notify your appropriate principal inspector, or lacking a principal inspector, the manager of the responsible Flight Standards Office.

(3) An AMOC that provides an acceptable level of safety may be used for any repair, modification, or alteration required by this AD if it is approved by The Boeing Company Organization Designation Authorization (ODA) that has been authorized by the Manager, AIR-520, Continued Operational Safety Branch, to make those findings. To be approved, the repair method, modification deviation, or alteration deviation must meet the certification basis of the airplane, and the approval must specifically refer to this AD.

(j) Related Information

(1) For more information about this AD, contact Wayne Ha, Aviation Safety Engineer, FAA, 2200 South 216th Street, Des Moines, WA 98198; phone: 562-627-5238; email: wayne.ha@faa.gov.

(2) Material identified in this AD that is not incorporated by reference is available at the address specified in paragraph (k)(3) of this AD.

(k) Material Incorporated by Reference

(1) The Director of the Federal Register approved the incorporation by reference (IBR) of the material listed in this paragraph under 5 U.S.C. 552(a) and 1 CFR part 51.

(2) You must use this material as applicable to do the actions required by this AD, unless the AD specifies otherwise.

(i) Boeing Alert Requirements Bulletin 757-53A0106 RB, dated January 3, 2023.

(ii) [Reserved]

(3) For Boeing material identified in this AD, contact Boeing Commercial Airplanes, Attention: Contractual & Data Services (C&DS), 2600 Westminster Blvd., MC 110-SK57, Seal Beach, CA 90740-5600; telephone 562-797-1717; website myboeingfleet.com.

(4) You may view this material at the FAA, Airworthiness Products Section, Operational Safety Branch, 2200 South 216th St., Des Moines, WA. For information on the availability of this material at the FAA, call 206-231-3195.

(5) You may view this material at the National Archives and Records Administration (NARA). For information on the availability of this material at NARA, visit www.archives.gov/federal-register/cfr/ibr-locations, or email fr.inspection@nara.gov.

Issued on January 21, 2025.
Suzanne Masterson,
Deputy Director, Integrated Certificate Management Division, Aircraft Certification Service.

[FR Doc. 2025-02395 Filed 2-7-25; 8:45 am]

BILLING CODE 4910-13-P